DEPARTMENT OF HEALTH AND HUMAN SERVICES

National Institutes of Health

Center for Scientific Review; Amended Notice of Meeting

Notice is hereby given of a change in the meeting of the Center for Scientific Review Special Emphasis Panel, Topics in basic neurovascular biology, neurodegeneration, and neurological disorders, August 01, 2025, 10:00 a.m. to August 01, 2025, 05:30 p.m., National Institutes of Health, Rockledge II, 6701 Rockledge Drive, Bethesda, MD 20892 which was published in the Federal Register on July 01, 2025, 90 FR 28755, Doc Number 2025-12277.

This meeting is being amended to change the start and end time from 10:00 a.m.-5:30 p.m. to 9:30 a.m.-5:00 p.m. The meeting is closed to the public.

Dated: July 21, 2025
Sterlyn H. Gibson,
Program Specialist Office of Federal Advisory Committee Policy.

[FR Doc. 2025-13876 Filed 7-23-25; 8:45 am]

BILLING CODE 4140-01-P